DEPARTMENT OF THE INTERIOR

National Park Service

Public Scoping Open House for Belle Haven Marina

AGENCY: National Park Service (NPS), Interior.

ACTION: Notice of public scoping open house.

SUMMARY: In compliance with 42 USC 4371 et seq. and National Park Service Policy, George Washington Memorial Parkway (GWMP) announces a public scoping Open House for the general public to consider and comment on alternatives for the future of visitor services provided on the Belle Haven peninsula. There will be a 30-day public comment period.

DATES: May 1, 2001, and May 2, 2001, between 7 and 9 p.m. at Potowmack Landing Restaurant. Potowmack Landing is located on GWMP at Daingerfield Island between Reagan National Airport and Old Town Alexandria.

ADDRESSES: Printed copies of the alternatives being presented at the Open House will be available for public inspection at GWMP Headquarters, Turkey Run Park, McLean, VA, Monday through Friday, 8 a.m. to 4 p.m. One copy will also be available at the Mary Custis and the Sherwood Hall Libraries in Fairfax County as well as the Queen Street Library in Alexandria. An electronic copy will be available on the GWMP website: http://www.nps.gov/gwmp. A limited number of copies are also available upon request by contacting GWMP at 703-289-2500.

SUPPLEMENTARY INFORMATION: Belle Haven Marina, Inc. has a contract with GWMP authorizing the concessioner to provide wet slip rental, dry storage, ramp service, sailboat rental, sailboat instructions, soft drink sales, and packaged goods within an assigned area of Belle Haven Park. The concessioner is currently operating under a contract extension which expires December 31, 2001. The National Park Service Concessions Management and Improvement Act (1998 Act) provides new legislative policies and procedures for the solicitation and award of concession contracts by the NPS. Section 51.23 of the concession contracting regulation, found at 36 CFR part 51, states that extensions in excess of an aggregate of three years are not permissible. Belle Haven Marina, Inc. will reach the three-year time limit on contract extensions December 31, 2001 and by regulation cannot continue concession operations within GWMP. “In addition Section 402(b) of the 1998 Act states that, It is the policy of Congress that the development of public accommodations, facilities, and services in units of the National Park System be limited to those accommodations, facilities, and services that are necessary and appropriate for public use and enjoyment * * * and are consistent to the highest practicable degree with the preservation and conservation of the resources and values of the unit.” A feasibility analysis as well as annual reports on the status of the marina identified problems that pose threats to visitor safety as well as environmental impacts to the sensitive resources in the adjacent Dyke Marsh area.

The purpose of the Open House is to initiate public involvement in planning for what is necessary and appropriate for the public use and enjoyment of the Belle Haven area. Information obtained through the public scoping Open House will be incorporated into a forthcoming Environmental Assessment that will also go through a public review and comment period.

FOR FURTHER INFORMATION CONTACT: Jacqueline Lavelle at (703) 289-2536.

Audrey F. Calhoun,
Superintendent, George Washington Memorial Parkway.

[FR Doc. 01-8685 Filed 4-6-01; 8:45 am]

BILLING CODE 4310-70-P